DEPARTMENT OF ENERGY

Federal Energy Regulatory Commission

Combined Notice of Filings #1

Take notice that the Commission received the following exempt wholesale generator filings:

Docket Numbers: EG21-67-000.

Applicants: Aquamarine Westside, LLC.

Description: Notice of Self-Certification of Exempt Wholesale Generator Status of Aquamarine Westside, LLC.

Filed Date: 1/12/21.

Accession Number: 20210112-5074.

Comments Due: 5 p.m. ET 2/2/21.

Docket Numbers: EG21-68-000.

Applicants: Aquamarine Lessee, LLC.

Description: Notice of Self-Certification of Exempt Wholesale Generator Status of Aquamarine Lessee, LLC.

Filed Date: 1/12/21.

Accession Number: 20210112-5075.

Comments Due: 5 p.m. ET 2/2/21.

Docket Numbers: EG21-69-000.

Applicants: Westlands Transmission, LLC.

Description: Notice of Self-Certification of Exempt Wholesale Generator Status of Westlands Transmission, LLC.

Filed Date: 1/12/21.

Accession Number: 20210112-5076.

Comments Due: 5 p.m. ET 2/2/21.

Take notice that the Commission received the following electric rate filings:

Docket Numbers: ER20-1985-001; ER20-1988-002; ER20-2179-002; ER20-2622-003.

Applicants: Northern Colorado Wind Energy Center, LLC, Northern Colorado Wind Energy Center II, LLC, Baldwin Wind Energy, LLC, Wilmot Energy Center, LLC.

Description: Notice of Non-Material Change in Status of Northern Colorado Wind Energy Center, LLC, et al.

Filed Date: 1/11/21.

Accession Number: 20210111-5207.

Comments Due: 5 p.m. ET 2/1/21.

Docket Numbers: ER20-2019-002; ER19-2398-006; ER20-1879-003.

Applicants: Gray County Wind, LLC, Oliver Wind I, LLC, Hancock County Wind, LLC.

Description: Notice of Non-Material Change in Status of Gray County Wind, LLC, et al.

Filed Date: 1/11/21.

Accession Number: 20210111-5175.

Comments Due: 5 p.m. ET 2/1/21.

Docket Numbers: ER20-2415-001; ER10-2421-004; ER10-2457-002; ER10-2590-007; ER10-2593-007; ER10-2616-018; ER11-4400-015; ER12-1769-007; ER12-2250-005; ER12-2251-005; ER12-2252-006; ER12-2253-005; ER12-75-008; ER14-1569-011; ER14-2245-005; ER14-883-012; ER15-1596-011; ER15-1599-011; ER19-102-004; ER19-158-006; ER19-2803-003; ER19-2806-003; ER19-2807-003; ER19-2809-003; ER19-2810-003; ER19-2811-003.

Applicants: Moss Landing Energy Storage 2, LLC, Moss Landing Power Company LLC, Oakland Power Company LLC, Ambit Northeast, LLC, Cincinnati Bell Energy LLC, Connecticut Gas & Electric, Inc., Dynegy Commercial Asset Management, LLC, Dynegy Energy Services, LLC, Dynegy Energy Services (East), LLC, Dynegy Marketing and Trade, LLC, Dynegy Power Marketing, LLC, Energy Rewards, LLC, Energy Services Providers, Inc., Everyday Energy, LLC, Everyday Energy NJ, LLC, Illinois Power Marketing Company, Luminant Energy Company LLC, Massachusetts Gas & Electric, Inc., Public Power, LLC, Public Power, LLC (PA), LLC, Public Power & Utility of Maryland, LLC, Public Power & Utility of NY, Inc., TriEagle Energy, LP, Viridian Energy, LLC, Viridian Energy PA, LLC, Viridian Energy NY, LLC.

Description: Notice of Change in Status of Vistra Southwest MBR Sellers.

Filed Date: 1/11/21.

Accession Number: 20210111-5197.

Comments Due: 5 p.m. ET 2/1/21.

Docket Numbers: ER21-454-001.

Applicants: Southern California Edison Company.

Description: Tariff Amendment: Refile TOT Revisions to Incorporate Letter Agreements to be effective 12/31/9998.

Filed Date: 1/12/21.

Accession Number: 20210112-5079.

Comments Due: 5 p.m. ET 2/2/21.

Docket Numbers: ER21-455-001.

Applicants: Southern California Edison Company.

Description: Tariff Amendment: Refile WDAT Revisions to Incorporate Curtailment and Qualifying Facilities to be effective 12/31/9998.

Filed Date: 1/12/21.

Accession Number: 20210112-5103.

Comments Due: 5 p.m. ET 2/2/21.

Docket Numbers: ER21-456-001.

Applicants: Southern California Edison Company.

Description: Tariff Amendment: Refile WDAT Revisions to Incorporate Letter Agreements to be effective 12/31/9998.

Filed Date: 1/12/21.

Accession Number: 20210112-5102.

Comments Due: 5 p.m. ET 2/2/21.

Docket Numbers: ER21-531-001.

Applicants: Southwest Power Pool, Inc.

Description: Tariff Amendment: 1885R10 Evergy Kansas Central, Inc. NITSA NOA—Bronson to be effective 9/1/2020.

Filed Date: 1/12/21.

Accession Number: 20210112-5028.

Comments Due: 5 p.m. ET 2/2/21.

Docket Numbers: ER21-532-001.

Applicants: Southwest Power Pool, Inc.

Description: Tariff Amendment: 1891R9 Evergy Kansas Central, Inc. NITSA NOA—Mulberry to be effective 9/1/2020.

Filed Date: 1/12/21.

Accession Number: 20210112-5073.

Comments Due: 5 p.m. ET 2/2/21.

Docket Numbers: ER21-533-001.

Applicants: Southwest Power Pool, Inc.

Description: Tariff Amendment: 1894R9 Evergy Kansas Central, Inc. NITSA NOA—Vermillion to be effective 9/1/2020.

Filed Date: 1/12/21.

Accession Number: 20210112-5080.

Comments Due: 5 p.m. ET 2/2/21.

Docket Numbers: ER21-539-001.

Applicants: Southwest Power Pool, Inc.

Description: Tariff Amendment: 1895R9 Evergy Kansas Central, Inc. NITSA NOA—Wathena to be effective 9/1/2020.

Filed Date: 1/12/21.

Accession Number: 20210112-5044.

Comments Due: 5 p.m. ET 2/2/21.

Docket Numbers: ER21-862-000.

Applicants: Pacific Gas and Electric Company.

Description: Notice of Termination of Generator Interconnection Agreement for San Joaquin Cogen, LLP, Service Agreement (No. 129) of Pacific Gas and Electric Company.

Filed Date: 1/11/21.

Accession Number: 20210111-5171.

Comments Due: 5 p.m. ET 2/1/21.

Docket Numbers: ER21-863-000.

Applicants: New York Independent System Operator, Inc.

Description: § 205(d) Rate Filing: 205 filing of tariff revisions to remove Notarization Requirement to be effective 3/13/2021.

Filed Date: 1/11/21.

Accession Number: 20210111-5174.

Comments Due: 5 p.m. ET 2/1/21.

Docket Numbers: ER21-864-000.

Applicants: Meyersdale Storage, LLC.

Description: Baseline eTariff Filing: Meyersdale Storage, LLC PJM Schedule 2 Reactive Power Rate to be effective 3/16/2021.

Filed Date: 1/12/21.

Accession Number: 20210112-5000.

Comments Due: 5 p.m. ET 2/2/21.

Docket Numbers: ER21-865-000.

Applicants: Southwest Power Pool, Inc.

Description: § 205(d) Rate Filing: 3356R1 Milligan 1 Wind LLC Generator Interconnection Agr to be effective 12/23/2020.

Filed Date: 1/12/21.

Accession Number: 20210112-5002.

Comments Due: 5 p.m. ET 2/2/21.

Docket Numbers: ER21-866-000.

Applicants: Southwest Power Pool, Inc.

Description: § 205(d) Rate Filing: 3635R1 Enel Trading & Evergy Kansas Central Meter Agent Agr to be effective 1/1/2021.

Filed Date: 1/12/21.

Accession Number: 20210112-5005.

Comments Due: 5 p.m. ET 2/2/21.

Docket Numbers: ER21-867-000.

Applicants: The Connecticut Light and Power Company.

Description: Notice of Cancellation of Small Generator Interconnection Agreement (No. IA-NU-16) of The Connecticut Light and Power Company.

Filed Date: 1/11/21.

Accession Number: 20210111-5209.

Comments Due: 5 p.m. ET 2/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2021.
Nathaniel J. Davis, Sr.,
Deputy Secretary.

[FR Doc. 2021-01033 Filed 1-15-21; 8:45 am]

BILLING CODE 6717-01-P